DEPARTMENT OF HEALTH AND HUMAN SERVICES

Administration for Children and Families

Submission for OMB Review; Comment Request

Title: Provisions of Services in Interstate Child Support.

Enforcement: Standard Forms.

OMB No.: 0970-0085.

Description: Public Law 104-193, the Personal Responsibility and Work Opportunity Reconciliation Act of 1996, amended 42 U.S.C. 666 to require State and Territory Child Support Enforcement (CSE) IV-D agencies to enact the Uniform Interstate Family Support Act (UIFSA) into State and Territory law by January 1, 1998. Section 311(b) of UIFSA requires States and Territories to use standard interstate forms. 45 CFR 303.7 also requires CSE IV-D agencies to transmit child support case information on standard interstate forms when referring cases to other States and Territories for processing. During the OMB clearance process, we are taking the opportunity to make revisions that have been requested by the State.

Overall, the language, format and instructions have been standardized across the forms. The title of the forms has been changed to “Intergovernmental” to reflect their use by States, Tribes, and foreign countries. For clarity in the Transmittal Initial Request we added a field for Born Out of Wedlock and Date Paternity Established. Instructions for the new fields have been added. Fields to identify Tribal affiliation have been added to all three Transmittals as well as instructions for this field. The instructions have been clarified by highlighting policy information that was included with the instructions so it is distinct and by making the instructions that are common across the forms consistent. Minor changes to common labels across the instructions have been made for consistency, e.g., Social Security No. and SSN to Social Security Number, email and E-mail to E-Mail, fax and Fax to FAX. These changes are in response to requests and comments made by States.

Respondents: State and Territory agencies administering the Child Support Enforcement program under title IV-D of the Social Security Act.

Annual Burden Estimates

Instrument | Number of respondents | Number of responses per respondent | Average burden hours per response | Total burden hours
Transmittal 1 | 54 | 19,278 | .25 | 260,253
Transmittal 2 | 54 | 14,458 | .08 | 62,459
Transmittal 3 | 54 | 964 | .08 | 4,164
Uniform Petition | 54 | 9,639 | .08 | 41,640
General Testimony | 54 | 11,567 | .33 | 206,124
Affidavit—Paternity | 54 | 4,819 | .17 | 44,238
Locate Data Sheet | 54 | 375 | .08 | 1,620
Notice of Controlling Order | 54 | 964 | .08 | 4,164
Registration Statement | 54 | 8,675 | .08 | 37,476
Estimated Total Annual Burden Hours |  |  |  | 662,138

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration for Children and Families.

Robert Sargis,
Reports Clearance Officer.

[FR Doc. 2010-32925 Filed 12-29-10; 8:45 am]

BILLING CODE 4184-01-P